DEPARTMENT OF HEALTH AND HUMAN SERVICES

Office of the Assistant Secretary for Preparedness and Response; HHS Public Health Emergency Medical Countermeasures Enterprise Implementation Plan for Chemical, Biological, Radiological, and Nuclear Threats

AGENCY: Office of the Assistant Secretary for Preparedness and Response, Department of Health and Human Services.

ACTION: Notice; correction.

SUMMARY: The Department of Health and Human Services (HHS) published a document in the Federal Register of June 20 2007, concerning the establishment of the National Biodefense Science Board. The document should have provided additional information indicating the timeframe the nomination for membership will remain open.

Correction

In the Federal Register of June 20, 2007, in FR vol. 72, No. 118, on page 34015, in the second column, correct the Summary section and insert an the following caption to read as follows:

“Resumes or Curriculum Vitae from qualified individuals who wish to be considered for membership on the Board are currently being accepted. The nomination period will remain open for thirty (30) days from the initial publication of this notice; nomination period will close on 20 July 2007. To submit a resume or curriculum vitae send e-mail to nbsbnominations@hhs.gov.”

Dated: June 20, 2007.
Gerald Parker,
Principal Deputy Assistant Secretary.

[FR Doc. E7-12406 Filed 6-26-07; 8:45 am]

BILLING CODE 4150-37-P